DEPARTMENT OF AGRICULTURE

Submission for OMB Review; Comment Request

April 26, 2006.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: PPQ Form 816; Contract Pilot and Aircraft Acceptance.

OMB Control Number: 0579-NEW.

Summary of Collection: The Plant Protection Act of 2000 directs the Secretary of Agriculture to carry out a program, subject to available funds, to control grasshoppers and Mormon crickets on all Federal lands to protect rangeland. The Animal and Plant Health Inspection Service (APHIS) carries out this program primarily by treating infested lands by aerial spraying of pesticides from aircraft.

Need and Use of the Information: Contract Pilot and Aircraft Acceptance Form (PPQ-816) is used by the Plant Protection and Quarantine personnel who are involved with contracts for aerial application services for emergency pest outbreaks. The form is used to document that the pilot and aircraft meet contract specifications.

Description of Respondents: Individuals or households.

Number of Respondents: 100.

Frequency of Responses: Reporting: On occasion.

Total Burden Hours: 875.

Ruth Brown,
Departmental Information Collection Clearance Officer.

[FR Doc. 06-4103 Filed 5-1-06; 8:45 am]

BILLING CODE 3410-34-P